DEPARTMENT OF JUSTICE

Antitrust Division

Notice Pursuant to the National Cooperative Research and Production Act of 1993—Electric Reliability Council of Texas, Inc.

Notice is hereby given that, on September 24, 2004, pursuant to section 6(a) of the National Cooperative Research and Production Act of 1993, 15 U.S.C. 4301 et seq. (“the Act”), Electric Reliability Council of Texas, Inc. (“ERCOT”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: Electric Reliability Council of Texas, Inc., Austin, TX. The nature and scope of ERCOT's standards development activities are: ERCOT manages a major portion of the state's electric power grid. ERCOT is responsible for managing the reliable supply of electricity to all customers within its region by maintaining a balance between forecasted schedules of electricity providers and the actual electricity demand among all market participants. ERCOT's members include utilities (municipals, cooperatives and investor owned utilities), power marketers, generation providers, retail service providers and end-use customer representatives.

ERCOT members and market participants meet on a regular basis at ERCOT facilities to create, revise and discuss the standards, policies and procedures in place for the ERCOT region and markets. Because participants are adopting changes to existing standards on a regular basis, ERCOT's standards development activities must be considered on-going.

Dorothy B. Fountain,
Deputy Director of Operations, Antitrust Division.

[FR Doc. 04-25872 Filed 11-19-04; 8:45 am]

BILLING CODE 4410-11-M